DEPARTMENT OF JUSTICE

Antitrust Division

Notice Pursuant to the National Cooperative Research and Production Act of 1993—Homeland Security Technology Consortium

Notice is hereby given that, on January 26, 2023, pursuant to Section 6(a) of the National Cooperative Research and Production Act of 1993, 15 U.S.C. 4301 et seq. (“the Act”), Homeland Security Technology Consortium (“HSTech”) formerly known as (fka) the Border Security Technology Consortium (“BSTC”) has filed written notifications simultaneously with the Attorney General and the Federal Trade Commission disclosing changes in its membership. The notifications were filed for the purpose of extending the Act's provisions limiting the recovery of antitrust plaintiffs to actual damages under specified circumstances. Specifically, A1C Partners LLC, Davidsonville, MD; BuzzClan LLC, Dallas, TX; Cignal LLC, Reedsville, PA; Cyber DI LLC, Great Falls, VA; geoConvergence LLC, Bloomington, IN; Gray Zone LLC, Burke, VA; Hikino Associates, LLC dba IoT/AI, Inc., Fremont, CA; Intelsat General Communications LLC, McLean, VA; LMI Consulting LLC, Tysons, VA; and Ultra Electronics Advanced Tactical Systems, Inc., Austin, TX, have been added as parties to this venture.

Also, Ernst & Young LLP, Tysons, VA; Chakrabarti Management Consultancy, Inc., Fairfax, VA; LAINE LLC, Goose Creek, SC; Liberty Consulting Solutions, Toms River, NJ; and Sonalysts, Inc., Waterford, CT, have withdrawn as parties to this venture.

No other changes have been made in either the membership or planned activity of the group research project. Membership in this group research project remains open, and HSTech (fka BSTC) intends to file additional written notifications disclosing all changes in membership.

On May 30, 2012, HSTech (fka BSTC) filed its original notification pursuant to Section 6(a) of the Act. The Department of Justice published a notice in the Federal Register pursuant to Section 6(b) of the Act on June 18, 2012 (77 FR 36292).

The last notification was filed with the Department on November 2, 2022. A notice was published in the Federal Register pursuant to Section 6(b) of the Act on November 22, 2022 (87 FR 71357).

Suzanne Morris,
Deputy Director, Civil Enforcement Operations, Antitrust Division.

[FR Doc. 2023-05516 Filed 3-16-23; 8:45 am]

BILLING CODE P